SOCIAL SECURITY ADMINISTRATION

[Docket No. SSA-2015-0025]

20 CFR Part 411

RIN 0960-AH50

Revising the Ticket to Work Program Rules

AGENCY: Social Security Administration.

ACTION: Advance notice of proposed rulemaking (ANPRM).

SUMMARY: We are soliciting public input on whether and how we might revise the current Ticket to Work program rules. The Ticket to Work and Work Incentives Improvement Act of 1999 established the Ticket to Work program to allow individuals with disabilities to seek services to obtain and retain employment in order to reduce dependency on cash benefit programs. In creating the program, Congress found that eliminating barriers to work and providing individuals with real choice in obtaining services and technology to find, enter, and maintain employment can greatly improve the short and long-term financial independence and personal well-being of our beneficiaries.

We want to explore improving our Ticket to Work program as part of our ongoing effort to help our beneficiaries find and maintain employment that leads to increased independence and enhanced productivity. If we propose specific revisions to our regulations, we will publish a notice of proposed rulemaking (NPRM) in the Federal Register.

DATES: To ensure that we consider your comments, we must receive them by no later than April 11, 2016.

ADDRESSES: You may submit comments by Internet, fax, or mail. Do not submit the same comments multiple times or by more than one method. Regardless of which method you choose, please state that your comments refer to Docket No. SSA-2015-0025 so that we may associate your comments with this ANPRM.

Caution: You should be careful to include in your comments only information you wish to make publicly available. We strongly urge you not to include in your comments any personal information, such as Social Security numbers or medical information.

1. Internet: We strongly recommend this method for submitting your comments. Visit the Federal eRulemaking portal at http://www.regulations.gov. Use the Web page's Search function to find docket number SSA-2015-0025. Once you submit your comment, the system will issue you a tracking number to confirm your submission. You will not be able to view your comment immediately because we post each comment manually. It may take up to a week for your comment to appear.

2. Fax: Fax comments to (410) 966-2830.

3. Mail: Address your comments to the Office of Regulations and Reports Clearance, Social Security Administration, 3100 West High Rise Building, 6401 Security Boulevard, Baltimore, Maryland 21235-6401.

Comments are available for public viewing on the Federal eRulemaking portal at http://www.regulations.gov or in person, during regular business hours, by arranging with the contact person identified below.

FOR FURTHER INFORMATION CONTACT: Mark Green, Deputy Director, Office of Beneficiary Outreach and Employment Support, Office of Research, Demonstration and Employment Support, Social Security Administration, 6401 Security Boulevard, Baltimore, MD 21235-6401, (410) 965-9852. For information on eligibility or filing for benefits, call our national toll-free number, 1-800-772-1213 or TTY 1-800-325-0778, or visit our Internet site, Social Security Online, at http://www.socialsecurity.gov.

SUPPLEMENTARY INFORMATION:

What is the purpose of this ANPRM?

The purpose of this ANPRM is to solicit ideas for improving the Ticket to Work program. We are considering whether and how we might update the Ticket to Work program rules to help both our beneficiaries and the providers that serve our beneficiaries in the program. The Ticket to Work program rules are contained in 20 CFR part 411. We last updated the program rules on May 20, 2008. Through this ANPRM, we are requesting comments and suggestions from the public on what we might include in new Ticket to Work program rules.

Why are we considering new Ticket to Work program rules?

According to the Bureau of Labor Statistics' (BLS) Current Population Survey (http://www.bls.gov/news.release/empsit.t06.htm), the July 2015 unemployment rate for individuals with a disability ¹ was 10.4 percent, compared to 5.4 percent for people without disability. This number refers to those who were actively seeking a job, and were willing, able and available to work, but unable to find a job in the month prior to the survey. The July 2015 employment-population ratio, which measures the percent of people in a given population who are working, was 17.7 percent for persons with a disability, versus 65.3 percent for those without a disability.

¹ The BLS uses a different definition of “disability” than we do. The BLS defines a person with disability as someone with at least one of the following conditions: Is deaf or has serious difficulty hearing; is blind or has serious difficulty seeing even when wearing glasses; has serious difficulty concentrating, remembering, or making decisions because of a physical, mental, or emotional condition; has serious difficulty walking or climbing stairs; has difficulty dressing or bathing; or has difficulty doing errands alone such as visiting a doctor's office or shopping because of a physical, mental, or emotional condition. Sections 223(d)(1)(A) and 1614(a)(3)(A) of the Social Security Act, 42 U.S.C. 423(d)(1)(A), 1382c(a)(3)(A), define “disability” as the inability to engage in any substantial gainful activity by reason of any medically determinable physical or mental impairment. The impairment must be one that can be expected to result in death or that has lasted or can be expected to last for a continuous 12-month period.

Employment programs that assist people with finding jobs may focus on either short-term or long-term goals. For example, the Individual Placement and Support (IPS) model emphasizes rapid job search and placement. Other models focus on equipping people with the education, skills, and supports that are building blocks of sustainable success in the labor market. We seek comments on the effectiveness of different employment support models and on how we can change the structure of the Ticket to Work program to incorporate the most successful models.

Since the last change in the Ticket to Work rules, there has been increased research in the fields of financial literacy, behavioral economics, and psychology. This could inform us on how to improve Ticket to Work program outcomes. For example, research shows that the way information is presented influences the decisions an individual makes. Therefore, it is essential to present information clearly and effectively, particularly for decisions that are complex or have long-term consequences. Beneficiaries in the Ticket to Work program face complex decisions regarding employment and benefits options. We are seeking your suggestions on effective ways to present information to beneficiaries to improve participation and outcomes in the Ticket to Work program.

Further, beneficiaries may need other supports to manage their finances and benefits. In our preliminary research, we noticed three areas of possible interest to beneficiaries in the program: (1) Financial education and counseling, (2) access to financial services and products, and (3) asset building. We request comments on how the Ticket to Work program might assist beneficiaries in understanding the options for increasing their earnings and achieving/sustaining greater financial independence, and whether financial education, financial services, and asset building are necessary to foster work outcomes that are likely to lead to exit from the disability rolls.

We also welcome your ideas on fostering program success for and with employment networks (ENs), which are the approved service providers for the program. Beneficiaries may obtain assistance from ENs in locating, retaining, and advancing in jobs/careers. We want your input on how we can remove service barriers for and increase the effectiveness of ENs, and which services the ENs might provide to help beneficiaries to secure employment and increase their earnings. In particular, we welcome comments and actual examples of how ENs can best assist individuals—in concert with employers, VR agencies, public work force systems, WIPAs and other entities—to achieve and sustain our beneficiaries' employment success.

Under the current program rules, the amount of our payments to ENs remains the same as long as a beneficiary meets our earnings requirements. We do not increase EN payments when a beneficiary earns more than the substantial gainful activity (SGA) level for sustained periods. (SGA describes a level of work activity and earnings, which we use as one factor to determine disability. We ordinarily consider an individual earning more than a certain monthly amount, excluding impairment-related work expenses, as engaging in SGA.) For 2015, earnings of more than $1,090 per month for non-blind individuals or $1,820 per month for blind individuals indicate SGA. We invite your comments on whether we should structure the payment system to provide ENs with increased payments for helping beneficiaries locate and keep higher paying jobs.

In general, with regard to removing service barriers for the ENs or changing the payment structure, we seek comments on how to foster a robust market of employment support services for our beneficiaries.

We are committed to identifying strategies that help people find and maintain employment and improve their economic status. Any changes we make to the Ticket to Work program should be based on strong research and effective practices that are evidence-based and data-driven. By adapting these practices to the Ticket to Work program, we hope to improve the long-term employment and economic prospects of our beneficiaries. If we propose specific revisions, we will publish a notice of proposed rulemaking in the Federal Register.

On which rules are we inviting comments and suggestions?

We are interested in any comments and suggestions you have on whether and how we should revise our Ticket to Work rules found in 20 CFR part 411. You can find the current rules for the Ticket to Work and Self-Sufficiency Program on the Internet at: http://www.gpo.gov/fdsys/pkg/CFR-2009-title20-vol2/pdf/CFR-2009-title20-vol2-part411.pdf.

We issued initial Ticket to Work program rules on December 28, 2001 (66 FR 67370). Based on our experience administering the program, we published amendments to those rules on May 20, 2008 (73 FR 29324). The revised rules simplified the program and made it more attractive to beneficiaries and potential service providers. In our ongoing effort to improve employment outcomes for beneficiaries, we are inviting your comments on whether and how we should revise the rules again.

We would like your comments on the program rules and your thoughts on our specific questions below. If you know of research studies supporting your recommendations, please attach the study to your comments or provide the name of the study, date of publication, and name(s) of the researcher(s) in your response.

Who should send us comments and suggestions?

We invite comments and suggestions from the following individuals and groups: Current and former beneficiaries, State Agencies (particularly State Vocational Agencies and Job Development Programs), advocates, current and former employment networks, and interested members of the public.

What should you comment about?

We are interested in any comments and suggestions on ways to improve the Ticket to Work program. For example:

1. Overall, how can we support the employment goals of social security beneficiaries through the Ticket to Work program?

2. How could we structure and present information to increase participation in and effectiveness of the program?

3. What employment support models are likely to be most effective in achieving the intent and goals of the program?

4. What incentives could we offer to help ensure ENs are financially and organizationally viable?

5. What incentives could we offer ENs for collaborating effectively with employers, VR agencies, public work force systems, WIPAs and other entities assisting our disability beneficiaries?

6. How could the program encourage youth with disabilities to pursue apprenticeships, career development programs, post-secondary education, and other work-related opportunities in a manner similar to their peers without disabilities?

7. How could ENs become integral to transition planning with youth who have disabilities, their families, and local schools?

8. Would offering beneficiaries financial education and planning services be appropriate for the program? If so, how could we accomplish this through changes to the program regulations?

9. What service barriers or administrative complexities do ENs face that inhibit their ability to serve our beneficiaries?

10. How might we encourage more organizations that can provide appropriate services to our beneficiaries to participate as ENs?

11. Should we adjust our payment systems to increase EN payments when a beneficiary earns more than the SGA level for sustained periods? If so, what adjustments could we make without increasing overall program costs?

12. Should we adjust our payment systems to provide even more EN payments than we currently do for helping a beneficiary secure and maintain part-time employment below the SGA level? If so, how might such a payment differ from the EN payments for a beneficiary earning at or above the SGA level?

13. The blanket purchase agreement we award to contractors to serve as ENs outlines their requirements to provide ongoing support services to beneficiaries. How should we define “ongoing support services” for the ENs? What ongoing services are necessary to support beneficiaries in jobs above SGA levels for sustained periods?

14. Under the program, State VR agencies participate either as ENs or under the cost reimbursement payment system (20 CFR 411.355) applicable to them. Should State VR agencies participating as ENs offer the same services and have the same responsibilities as other ENs? If not, what services and supports should State VR agencies participating as ENs provide?

15. In measuring EN performance, we consider factors such as:

• Completing employment support services as planned;

• the percentage of Ticket to Work clients who were placed in a job within 9-12 months;

• the percentage of clients who retained their jobs for significant periods; and

• the percentage of clients who progressed to long-term earnings above SGA.

Are these appropriate measures and, if not, what measures should we use?

16. What are some barriers that ENs face? How might we adjust our rules to help ENs succeed at providing the services and support beneficiaries need to find and maintain employment?

Will we respond to your comments from this notice?

We will consider all comments and suggestions we receive. However, we will not respond directly to the comments you send in response to this ANPRM.

What will we consider when we decide whether to propose revisions?

When we decide whether to propose revisions to our rules for the program, we will consider:

• All comments and suggestions we receive in response to this notice, and

• Our own experience working with the program.

If we decide to propose specific revisions, we will publish a Notice of Proposed Rulemaking in the Federal Register, and you will have an opportunity to comment on the revisions we propose.

List of Subjects in 20 CFR Part 411

Administrative practice and procedure, Blind, Disability benefits, Public assistance programs, Reporting and recordkeeping requirements, Social security, Supplemental Security Income (SSI), Vocational rehabilitation.

Carolyn W. Colvin,
Acting Commissioner of Social Security.

[FR Doc. 2016-02657 Filed 2-9-16; 8:45 am]

BILLING CODE 4191-02-P